DEPARTMENT OF AGRICULTURE

Rural Business-Cooperative Service

[Docket No. RBS-22-Business-0029]

Notice of Solicitation of Applications for the Rural Energy for America Program for Fiscal Years 2023 and 2024

AGENCY: Rural Business-Cooperative Service, USDA.

ACTION: Notice.

SUMMARY: The Rural Business-Cooperative Service (the Agency) is issuing a second Notice of Solicitation of Applications (Notice) under the Rural Energy for America Program (REAP) as referenced in the notice that was published in the Federal Register on December 16, 2022. This second notice announces the availability of $1.055 billion in Inflation Reduction Act funds across six quarterly cycles to be obligated by September 30, 2024. This Notice also announces the types of projects that qualify for a federal grant share not to exceed 50 percent of the project cost, a set-aside for underutilized renewable energy technologies (underutilized technologies), as well as scoring revisions to support Administration priorities. Applications received on or after April 1, 2023, will be evaluated and scored according to the provisions listed in this Notice, unless otherwise amended via a subsequent notice. The Notice will not be applied retroactively to any applications previously filed. However, a portion of the funding made available under this notice may be made available to add to pooled funds to fund any Fiscal Year (FY) 2023 applications submitted prior to March 31, 2023, with no other changes in funding provisions or scoring allowed.

DATES: As provided for in 7 CFR 4280.122, the Agency, by this Notice, is increasing the number of competitions for Renewable Energy Systems and Energy Efficiency Improvements (RES/EEI) grant applications. The application deadline date and time as outlined in 7 CFR 4280.156(a) remains unchanged. RES/EEI and Energy Efficient Equipment and Systems (EEE) guaranteed loan applications are competed on an ongoing basis in accordance with 7 CFR 5001.315. See Section D.4. of this Notice for details on REAP competitions.

ADDRESSES: You are encouraged to contact your United States Department of Agriculture (USDA) Rural Development (RD) State Energy Coordinator well in advance of the application deadline to discuss your project and ask any questions about the application process. Contact information for State Office Energy Coordinators can be found at https://rd.usda.gov/files/RBS_StateEnergyCoordinators.pdf.

Program guidance and application forms may be obtained at https://rd.usda.gov/programs-services/all-programs/energy-programs. To submit an electronic application via grants.gov, follow the instructions for the REAP funding announcement located at https://www.grants.gov.

FOR FURTHER INFORMATION CONTACT: Jonathan Burns, Program Management Division, Rural Business-Cooperative Service, United States Department of Agriculture, 774-678-7238 or email CPgrants@usda.gov.

SUPPLEMENTARY INFORMATION:

Overview

Federal Awarding Agency Name: USDA, Rural Business-Cooperative Service.

Funding Opportunity Title: Rural Energy for America Program (REAP).

Announcement Type: Notice of Solicitation of Applications.

Funding Opportunity Number: RDBCP-REAP-RES-EEI-2023-2024.

Assistance Listing Number: 10.868.

Dates: See the DATES section of this Notice and Section D.4. for details on REAP competitions.

Rural Development Key Priorities: The Agency encourages applicants to consider projects that will advance the following key priorities below:

• Assisting rural communities recover economically through more and better market opportunities and through improved infrastructure;

• Ensuring all rural residents have equitable access to RD programs and benefits from RD funded projects; and

• Reducing climate pollution and increasing resilience to the impacts of climate change through economic support to rural communities.

A. Program Description

1. Purpose of the program. The Agency provides grants, guaranteed loans, and combined grant and guaranteed loan combinations thru the REAP program to help agricultural producers and rural small businesses reduce energy costs and consumption and helps meet the Nation's critical energy needs. Applications for REAP may be submitted at any time throughout the year.

2. Statutory and Regulatory Authority. REAP is authorized under 7 U.S.C. 8107 and is implemented by 7 CFR 4280 Subpart B (https://www.ecfr.gov/current/title-7/subtitle-B/chapter-XLII/part-4280#part-4280) and 7 CFR part 5001 (https://www.ecfr.gov/current/title-7/subtitle-B/chapter-L/part-5001). The Inflation Reduction Act (IRA) of 2022 provides additional authorities for REAP (Public Law 117-169, Section 22002).

3. Definitions. The definitions applicable to this notice are published at 7 CFR 4280.103 and 7 CFR 5001.3.

For the purpose of this Notice only, underutilized renewable energy technologies (underutilized technologies) are defined as those technologies which do not produce greenhouse gases at the project level, and which make up less than 20 percent of the total grant dollars obligated at the end of the fiscal year, two (2) years previous to the current year. For example, FY 2021 award data will be utilized to determine which technologies are underutilized technologies for the FY 2023 competition.

For awareness, the number of employees calculation used to determine the size of a business concern in the definition of Small Business is being updated to 24 months versus 12 months, to align with recent changes made by the Small Business Administration.

B. Federal Award Information

Type of Award: Competitive grants and guaranteed loans.

Fiscal Year Funds: FY 2023 and FY 2024.

Available Funds: Total approximate budget authority made available under this notice is as follows:

Source | Available funds
2022 carryover, 2023, and 2024 Inflation Reduction Act | up to $910,251,000.
2022 carryover, 2023 and 2024 Inflation Reduction Act Set-Aside for Underutilized Technologies | up to $144,752,000.
Total Funds Available | at least $1,055,003,000.

The Agency may, at its discretion, increase the total level of funding available in this funding round (or in any category in this funding round) from any available source provided the awards meet the requirements of the statute which made the funding available to the Agency.

Award Amounts: See Funding Restrictions in Section E of this Notice for minimum and maximum award amounts.

Anticipated Award Date: Projects will be awarded quarterly with all FY obligations made prior to September 30th of each year.

Performance Period: Up to 24 months for grants. Guaranteed loans are governed by the loan terms.

Type of Instrument: Grant, guaranteed loan, and grant and guaranteed loan combined funding.

Approximate Number of Awards: The estimated number of awards of 9,000 is based on the anticipated level of funding as noted in the table above. The number of awards will depend on the actual amount of funds made available and on the number of eligible applicants participating in this program.

Available Funds Information:

(a) Program Level Funds. This Notice is announcing the remainder of FY 2022 mandatory Farm Bill carryover funding in addition to FYs 2023 and 2024 IRA funding not announced in the December 16, 2022, REAP notice, including any carryover. This Notice also includes a set-aside for underutilized renewable energy technologies. Expenses incurred in developing applications will be at the applicant's risk.

1. Energy Audit and Renewable Energy Development Assistance (EA/REDA) grant funds. The amount of funds that will be available for EA/REDA will be dependent on new Farm Bill funding received, if any, and any other appropriated funding. Applications will be competed at the National Office and obligations of EA/REDA funds will take place through March 31 of each year.

2. RES/EEI grant funds. IRA funds will be available to fund requests that do not exceed 50 percent of total eligible project costs. Farm Bill funds and FY 2024 annual appropriated funds, if any, will be available to fund requests that do not exceed 25 percent of total eligible project costs.

(i) To ensure that small projects have a fair opportunity to compete for the funding and to be consistent with the requirements set forth in the 7 U.S.C. 8107(e)(1), the Agency will set aside not less than 20 percent of the Farm Bill and IRA funds until June 30 of each year to fund grant requests of $20,000 or less, including the grant portion of a combined grant and guaranteed loan request. Each RD State Office will receive a set-aside allocation of IRA funds for grant requests of $20,000 or less, which includes combination grant and guaranteed loan requests where the grant amount requested is $20,000 or less. States may request Farm Bill set-aside funds from their allocation held at the National Office. Complete grant applications requesting $20,000 or less must be submitted by March 31 to compete for set-aside funding. Any unobligated balance of funds remaining in state set-aside accounts on June 1 will be pooled by the National Office for national set-aside competitions. Obligation of set-aside grant funds will take place through June 30 of each year.

(ii) Each RD State Office will also receive allocations of unrestricted Farm Bill funds, if any, and IRA grant funds that can be used to fund any RES/EEI grant application regardless of the amount of grant requested, including the grant portion of a combination grant and guaranteed loan request. Complete applications must be received by June 30th to compete for FY funding. Any unobligated balance of funds remaining in state unrestricted accounts on August 1 will be pooled to the National Office for a national competition of funds. The pooling will first consider funding underutilized technology with the funding set-aside. Obligation of unrestricted grant funds will take place through September 30th of each year.

3. RES/EEI and EEE loan guarantee funds. RD's National Office will maintain a reserve of Farm Bill guaranteed loan funds to fund guaranteed loan only requests or the loan portion of a combined funding request. EEE guaranteed loans for agricultural production and processing shall not exceed 15 percent of the funds available to the program. Applications will be reviewed and processed when received. Those applications that meet the Agency's underwriting requirements and are credit worthy will compete in national competitions for guaranteed loan funds periodically. If funds remain after the final guaranteed loan-only national competition, the Agency may elect to utilize budget authority to fund additional grant-only applications. The guaranteed fee rates, the annual renewal fee, the maximum percentage of guarantee and the maximum portion of guaranteed authority available for a reduced guaranteed fee will be published annually in a separate notice. Obligation of guaranteed loan funds will take place through September 30th of each year.

4. RES/EEI combined grant and guaranteed loan funds. Funding availability for combined grant and guaranteed loan applications is outlined in Sections B and C of this Notice. Combination funding requests are scored using RES/EEI grant scoring criteria in accordance with 7 CFR 4280.121 and 7 CFR 4280.137(h). If the combined application is ranked high enough to receive state allocated grant funds, the state will request funding for the guaranteed loan portion of the request from the National Office guaranteed loan reserve and no further competition will be required. If not funded by the state allocation of funds, combined grant and guaranteed loan applications may be submitted to the National Office to compete in the appropriate National Office competition. Obligation of these funds will take place through September 30th of each year.

Signage: The Awardee is encouraged to display USDA standard infrastructure investment signage, available for download from the Agency, during construction of the project. Expenditures for such signage shall be a permitted eligible cost of IRA funded projects.

C. Eligibility Information

1. Eligibility Requirements. The eligibility requirements for the applicant, borrower, lender, and project (as applicable) are clarified in 7 CFR part 4280 Subpart B and in 7 CFR part 5001 and are summarized in this Notice. Failure to meet the eligibility criteria by the time of the competition window will preclude the application from competing until all eligibility criteria have been met.

i. Eligible Applicants. Grant applicants must meet the requirements specified in 7 CFR 4280.110. An applicant must also meet the requirements specified at: 7 CFR 4280.112 for RES/EEI grant; 7 CFR 4280.137 for RES/EEI combined grant and guarantee; and 7 CFR 4280.149 for EA/REDA grant.

ii. Eligible Borrowers and Lenders. To be eligible for the guaranteed loan portion of the program, borrowers must meet the eligibility requirements in 7 CFR 5001.126 and lenders must meet the eligibility requirements in 7 CFR 5001.130.

iii. Eligible Projects. To be eligible for the program a project must meet the eligibility requirements specified in 7 CFR 4280.113 for RES/EEI grant; 7 CFR 4280.150 for EA/REDA grant; 7 CFR 4280.137 for RES/EEI combined grant and guaranteed loan; and 7 CFR 5001.106 through 5001.108, as applicable, for RES/EEI/EEE loan guarantees.

2. Cost Sharing or Matching. Matching requirements for each type of funding, as applicable, are outlined in 7 CFR 4280.115 (b) for RES/EEI grant; and 7 CFR 4280.137 for RES/EEI combined grant and guaranteed loan.

3. Other.

i. Ineligible project costs are defined at: 7 CFR 4280.115(d) for RES/EEI grant and combined grant and guaranteed loans; 7 CFR 4280.152(c) for EA/REDA grant; and 7 CFR 4280.137 (j)(5) and 5001.122 for RES/EEI/EEE loan guarantees.

ii. Other compliance requirements. The USDA Departmental Regulations and Laws that contain other compliance requirements are referenced in Section D.5. of this Notice. Applicants who have been found to be in violation of applicable Federal statutes will be ineligible.

iii. Hemp production. The Agriculture Improvement Act of 2018, Public Law 115-334, (the 2018 Farm Bill) requires USDA to promulgate regulations and guidelines to establish and administer a program for the production of hemp in the United States.

In determining eligibility for the applicant, project or use of funds, any project applying for funding under the REAP program and proposing to produce, procure, supply or market any component of the hemp plant or hemp related by-products, or provide technical assistance related to such products, must have a valid license from an approved state, Tribal or Federal plan pursuant to Section 10113 of the 2018 Farm Bill, to be in compliance with regulations published by the Agricultural Marketing Service at 7 CFR part 990, and meet any applicable U.S. Food and Drug Administration and U.S. Drug Enforcement Administration regulatory requirements. Verification of valid hemp licenses will occur prior to award. In addition, all projects proposing to use biomass feedstock from any part of the hemp plant must demonstrate assurance of an adequate supply of the feedstock.

D. Application and Submission Information

1. Address to Request Application Package. Application materials may be obtained by contacting the RD Energy Coordinator for the state where the proposed project will be located, as identified via the following link: https://www.rd.usda.gov/files/RBS_StateEnergyCoordinators.pdf. In addition, for grant applications, applicants may obtain electronic grant applications for REAP from www.grants.gov.

2. Content and Form of Application Submission. Applicants seeking to participate in this program must submit applications in accordance with this Notice, 7 CFR part 4280 subpart B and 7 CFR part 5001, as applicable. Applicants must submit complete applications by the dates identified in Section D.4., of this notice, containing all parts necessary for the Agency to determine applicant and project eligibility, to score the application, and to conduct the technical evaluation, as applicable, in order to be considered. The Agency encourages the applicant to reach out to their Energy Coordinator to determine application status. The applicant bears all risk should they incur project costs or commence construction activities prior to Agency notification of a complete and eligible application and the completion of an environmental review.

3. Submission. Applicants must submit one original, hardcopy or electronic application to the appropriate RD Energy Coordinator for the State where the applicant's proposed project will be located. For grant applications, submission may be via www.grants.gov. A list of USDA RD State Office Energy Coordinators is available via the following link: https://www.rd.usda.gov/files/RBS_StateEnergyCoordinators.pdf.

4. Submission Dates and Times. Grant applications, guaranteed loan-only applications, and combined grant and guaranteed loan applications for financial assistance may be submitted at any time on an ongoing basis and will compete accordingly based on the application window submission deadlines. In accordance with 7 CFR part 4280 and this Notice, application submission deadlines are summarized in the table below. To be considered for funds under this Notice, complete applications must be received by the appropriate USDA RD State Office Energy Coordinator or via www.grants.gov by 4:30 p.m. local time on the application window submission deadline. The complete application date is the date the Agency receives the last piece of information that allows the Agency to determine eligibility and to score, rank, and compete the application for funding. The Agency encourages the applicant to reach out to their Energy Coordinator to determine application status.

When an application window closes, the next application window opens on the following day. An application received after the window closing date will be considered with other complete applications received in the next application window.

Type of application | Application window opening dates | Application window closing dates
EA/REDA | February 1, 2023 | January 31, 2024.
RES/EEI (Q1) | April 1, 2023 | June 30, 2023*.
RES/EEI (Q2) | July 1, 2023 | September 30, 2023.
RES/EEI (Q3) | October 1, 2023 | December 31, 2023.
RES/EEI (Q4) | January 1, 2024 | March 31, 2024.
RES/EEI (Q5) | April 1, 2024 | June 30, 2024*.
RES/EEI (Q6) | July 1, 2024 | September 30, 2024.
RES/EEI/EEE Guaranteed Loans | Continuous application cycle | Continuous application cycle.
* Unless subsequent deadlines are published via a Notice, applications received after this date will be considered in the next quarter for the subsequent FY funding.

5. Other Submission Requirements. The following are applicable for all REAP applications:

i. Environmental information. For the Agency to consider an application, the application must address all environmental considerations specific to the project in accordance with 7 CFR part 1970 and provide supporting documentation as necessary. Applicants are advised to contact the Agency as soon as possible and prior to commissioning a project to determine environmental requirements and ensure adequate review time.

ii. Transparency Act Reporting. All recipients of Federal financial assistance are required to report information about first-tier subawards and executive compensation in accordance with 2 CFR part 170. If an applicant does not have an exception under 2 CFR 170.110(b), the applicant must then ensure that they have the necessary processes and systems in place to comply with the reporting requirements to receive funding.

iii. Race, ethnicity, and gender. The Agency is requesting that each applicant provide race, ethnicity, and gender information about the applicant. The information will allow the Agency to evaluate its outreach efforts to under-served and under-represented populations. Applicants are encouraged to furnish this information with their application but are not required to do so. An applicant's eligibility or the likelihood of receiving an award will not be impacted by furnishing or not furnishing this information.

E. Funding Restrictions

The following funding limitations apply to applications submitted under this Notice.

1. RES/EEI/EEE applications.

i. Modification is being made via this Notice to increase the maximum grant assistance noted in 7 CFR 4280.115(a)(3). Applicants can compete and be awarded only one RES grant and one EEI grant in a FY, which includes the grant portion of a combined funding request. If it is determined that an applicant is affiliated with another entity that has also applied, then the maximum grant award applies to all affiliated entities as if they applied as one applicant. An affiliate is an entity controlling or having the power to control another entity, or a third party or parties that control or have the power to control both entities. The maximum amount of grant assistance to an entity will not exceed $1,500,000 in a FY.

ii. Modification is being made via this Notice to the Federal grant portion noted in 7 CFR 4280.115(a). Pursuant to Section 22002 of the IRA, the Federal grant portion of a project utilizing IRA funds cannot exceed 50 percent of total eligible project costs. Applications submitted on or after April 1, 2022, through March 31, 2023, are eligible for up to 40 percent Federal grant share from IRA funds as outlined in the December 16, 2022, notice. Applications submitted on or after April 1, 2023, are eligible for up to 50 percent Federal grant share from IRA funds if the project meets one of the following criteria:

(a) Is a renewable energy system or retrofit of a renewable energy system that produces zero greenhouse gas emissions (carbon dioxide (CO2), methane (CH4), nitrous oxide (N2O), or fluorinated gases) at the project level;

(b) Is located in an Energy Community as defined in 26 U.S.C. 45(b)(11)(B), and as determined by the Department of Energy;

(c) Is an energy efficiency improvement project; or

(d) Is a project proposed from an eligible Tribal corporation or other Tribal Business entities (including Tribal agriculture operations) as described in 7 CFR part 4280.

All other applications, such as biomass and biogas projects, are eligible for up to 25 percent Federal grant share from IRA funds. The Federal grant portion of a project utilizing Farm Bill funds or FYs 2023 or 2024 appropriated funds, if any, cannot exceed 25 percent of total eligible project costs. Sources of REAP grant funds cannot be combined to fund a project. Loan and grant combination applications may use IRA grant funds and mandatory Farm Bill loan funds to fund a project.

iii. For RES grants, the minimum request is a total project cost threshold of $10,000, therefore at 25 percent funding the minimum grant request is $2,500 and at 50 percent funding the minimum grant request is $5,000. The maximum grant request is $1,000,000. For EEI grants, the minimum request is a total project cost threshold of $6,000, therefore at 25 percent funding the minimum grant request is $1,500 and at 50 percent funding the minimum grant request is $3,000. The maximum grant request is $500,000. These minimum and maximum limits also apply to the grant portion of a combined funding request.

Renewable energy systems | Energy efficiency improvements
At 25% Funding—Minimum Grant Request | $2,500 | At 25% Funding—Minimum Grant Request | $1,500
At 50% Funding—Minimum Grant Request | 5,000 | At 50% Funding—Minimum Grant Request | 3,000
Maximum Grant Request | 1,000,000 | Maximum Grant Request | 500,000

iv. For RES/EEI/EEE loan guarantees or the loan guaranteed portion of a combined funding request, the minimum REAP guaranteed loan amount is $5,000 and the maximum amount of a guaranteed loan to be provided to a borrower is $25 million. REAP guaranteed loan requests and combined grant and guaranteed loan requests will not exceed 75 percent of total eligible project costs, with the portion of any grant requests under this Notice not exceeding 25, or 50 percent of total eligible project costs, as applicable to the source of grant funds and grant funding provisions as outlined in this Notice.

2. EA/REDA applications.

i. Applicants may submit only one EA grant application and one REDA grant application in a FY. Separate applications must be submitted for EA funding and REDA funding. If an application is submitted for both EA and REDA funding or if an application's scope of work includes both EA and REDA activities, it will be determined ineligible for competition. The maximum aggregate amount of EA and REDA grant awards to any one recipient cannot exceed $100,000 in a FY.

ii. Applicants that have received one or more grants under this program must have made satisfactory progress per 7 CFR 4280.110(a) before being considered for funding.

iii. The 2018 Farm Bill mandates that the recipient of an EA grant must require the agricultural producer or rural small business receiving the energy audit to pay at least 25 percent of the cost of the energy audit, which shall be retained by the grantee for the cost of the audit.

F. Application Review Information

1. Scoring. All complete applications will be scored in accordance with the following:

i. RES/EEI grant applications and RES/EEI combined grant and loan guarantee requests received between April 1, 2022, through March 31, 2023, will be scored according to the Notice published in the Federal Register on December 16, 2022.

ii. RES/EEI grants and RES/EEI combined grant and loan guarantee requests submitted on or after April 1, 2023, will be scored based on 7 CFR 4280.121 and criteria identified in F.1.v. below. The following modifications to the scoring criteria outlined in 7 CFR 4280.121 will be applied for this section:

(a) Existing business and size of request, 7 CFR 4280.121(e) and (g) will be removed from the scoring criteria.

(b) Project is located in a Disadvantaged Community or a Distressed Community (15 points will be added). A Disadvantaged Community will be determined by the Agency by using the Council on Environmental Quality's Climate and Economic Justice Screening Tool (which is incorporated into the USDA look-up map) which identifies communities burdened by climate change and environmental injustice. Additionally, all communities within the boundaries of Federally Recognized Tribes and Alaska Native Villages will also be determined to be Disadvantaged Communities by the Agency. Distressed Community will be determined by the Agency by using the Economic Innovation Group's Distressed Communities Index (which is incorporated into the USDA look-up map), which uses several socio-economic measures to identify communities with low economic well-being. To determine if your project is located in a Disadvantaged Community or a Distressed Community, please use the following USDA look-up map: https://ruraldevelopment.maps.arcgis.com/apps/webappviewer/index.html?id=4acf083be4c44bb7864d90f97de0c788.

(c) Environmental benefits, 7 CFR 4280.121(a) is being increased to a maximum of 10 points and points will be awarded as follows. All projects which do not produce greenhouse gases at the project level will be awarded five points and may be considered for up to a maximum of 10 points. Applicants must provide a detailed narrative or analysis to support additional environmental benefits. One point will be awarded for each documented environmental benefit supported by the project; does not convert farmland; does not contribute to deforestation or addresses fire hazards on forest lands; documented water conservation; complies with EPA's renewable fuel standards; and at least 25% of project components are biobased.

(d) Commitment of funds, 7 CFR 4280.121(c) is being decreased to a maximum of 10 points.

(e) State Director and Administrator priority points, 7 CFR 4280.121(h) have been modified as shown in item F.1.v. below.

(f) The remaining scoring criteria, energy generated, replaced or saved; previous grantees and borrowers; and simple payback, 7 CFR 4280.121 (b), (d), and (f), respectively, remain as stated in the regulation.

Table Summarizing the REAP RES and EEI Scoring Changes
Scoring Criteria for REAP RES/EEI applications submitted April 1, 2022, to March 31, 2023: Points | Scoring Criteria for REAP RES/EEI applications submitted April 1, 2022, to March 31, 2023: Criteria | Scoring Criteria for REAP RES/EEI applications submitted on and after April 1, 2023: Points | Scoring Criteria for REAP RES/EEI applications submitted on and after April 1, 2023: Criteria
25 | Energy generated/saved/replaced | 25 | Energy generated/saved/replaced
15 | Previous recipient? If no, 15 points and scales from there | 15 | Previous recipient? If no, 15 points and scales from there
15 | Length of payback period | 15 | Length of payback period
15 | Commitment of matching funds | 10 | Commitment of matching funds
5 | Environmental benefits | 10 | Environmental benefits
10 | Size of request | 15 | Located in a Disadvantaged Community or a Distressed Community.
5 | Existing business |  |
10 | State Director/Administrator Pts. | 10 | State Director/Administrator Pts.
100 | Total | 100 | Total

iii. EA/REDA grants will be scored based on 7 CFR 4280.155.

iv. RES/EEI/EEE guaranteed loans will be scored based on 7 CFR 5001.319 and item F.1.v. below.

v. State Director or Administrator priority points are found in 7 CFR 4280.121(h), 4280.137(h), and 5001.319(g). For the purposes of this notice, the State Director or Administrator at their discretion may award up to 10 priority points maximum for projects which meet any of the following criteria: (i) Selecting the application helps achieve geographic diversity, which may include points based upon the size of the funding request; (ii) The applicant is a member of an unserved or underserved population described as follows: (1) Owned by a veteran, including but not limited to individuals as sole proprietors, members, partners, stockholders, etc., of not less than 20 percent. In order to receive points, applicants must provide a statement in their application to indicate that owners of the project have veteran status; or (2) Owned by a member of a socially disadvantaged group, which are groups whose members have been subjected to racial, ethnic, or gender prejudice because of their identity as members of a group without regard to their individual qualities. In order to receive points, the application must include a statement to indicate that the owners of the project are members of a socially disadvantaged group; (iii) The proposed project is in a Federally declared major disaster area. Declarations must be within the last 2 calendar years; or (iv) the proposed project is located in (1) an area where 20 percent or more of its population is living in poverty over the last 30 years, as defined by the United States Census Bureau, or (2) an area that has experienced long-term population decline, or loss of employment. Except for veteran and socially disadvantaged group status, all other priority points are based upon project location specific criteria which will be documented automatically by the Agency. State Director or Administrator priority points for a REAP application cannot exceed 10 points total.

2. Competitions. As provided for in 7 CFR 4280.122, additional competition windows are being added to allow RES/EEI grants, including combination grant and guaranteed loan requests, submitted on or after April 1, 2023, to compete quarterly. There are six quarterly application windows. Applications compete in the quarter following the quarter in which the application was submitted. Quarterly windows through the end of FY 2024 are as follows: Q1, April-June 2023; Q2, July-September 2023; Q3, October-December 2023; Q4, January-March 2024; Q5, April-June 2024; Q6, July-September 2024. Applications must be received, regardless of postmark, by the applicable State Office by 4:30 p.m. local time on the final day of each quarter or else they will be considered submitted in the following quarter. If the last day of the quarter falls on a non-business day or a Federally-observed holiday, the next Federal business day will be considered the last day for receipt of a complete application for the quarter. Applications not funded in a given quarter will rollover to the next quarterly competition however, the applicant must file a new application if the application is not funded in the final fiscal year competition (final fiscal year competitions are Q2 for September 2023 and Q6 for September 2024).

There are multiple sources and reserves of funding and the application will compete accordingly based upon on the dollar amount of grant request (set-aside or unrestricted), the percent of Federal grant share to total project cost (IRA or Farm Bill), or if the definition of underutilized technologies, as defined in Section A.3. is met. The final FY quarterly application window for grant requests of $20,000 or less to compete in the set-aside is the quarter ending March 31st which allows the application to compete prior to the June 30th set-aside obligation deadline. The final FY quarterly application window, regardless of the size of the grant request, to compete for fiscal year funds is the quarter ending June 30th which allows the application to compete prior to the September 30th unrestricted obligation deadline. Funds not used in a given quarter will roll over to the next quarter. State allocated restricted funds will be pooled on June 1 to hold a national pooled competition for grants requesting $20,000 or less. State allocated, unrestricted funds, will be pooled on or before August 1st to hold a national pooled competition for grants unrestricted by the size of the grant request. To compete in a national pooling an application must have competed in at least one state competition. Applications not funded in the national unrestricted pooling competition must be withdrawn. If eligible, the applicant may submit a new application for the project to compete in the next fiscal year. Unless modified in a subsequent notice, the maximum number of competitions a complete and eligible application will be able to compete within the FY is outlined in 7 CFR 4280.156 for EA/REDA grants, and 7 CFR 5001.315 for guaranteed loans. If the application remains unfunded after the final National Office competition for the FY it must be withdrawn.

3. Notification of funding determination. As per 7 CFR 4280.111(c) and 7 CFR 5001.315(b)(2), all applicants will be informed in writing by the Agency as to the funding determination of the application.

H. Build America, Buy America Act

Funding to Non-Federal Entities. Awardees that are Non-Federal Entities, defined pursuant to 2 CFR 200.1 as any State, local government, Indian tribe, Institution of Higher Education, or nonprofit organization, shall be governed by the requirements of Section 70914 of the Build America, Buy America Act (BABAA) within the IIJA. Any requests for waiver of these requirements must be submitted pursuant to USDA's guidance available online at https://www.usda.gov/ocfo/federal-financial-assistance-policy/USDABuyAmericaWaiver.

I. Other Information

1. Congressional Review Act Statement. Pursuant to Subtitle E of the Small Business Regulatory Enforcement Fairness Act of 1996 (also known as the Congressional Review Act or CRA); 5 U.S.C. 801 et seq., the Office of Information and Regulatory Affairs in the Office of Management and Budget designated this action as a major rule as defined by 5 U.S.C. 804(2), because it is likely to result in an annual effect on the economy of $100,000,000 or more. Accordingly, there is a 60-day delay in the effective date of this action, and the Agency will not take action on applications until the later of 60 days after notification to Congress or May 30, 2023. The 60-day delay required by the CRA is not expected to have a material impact upon the administration and/or implementation of this program.

2. Paperwork Reduction Act. In accordance with the Paperwork Reduction Act of 1995, the information collection requirements associated with the programs, as covered in this notice, have been approved by the Office of Management and Budget (OMB) under OMB Control Number 0570-0067.

3. Nondiscrimination Statement. In accordance with Federal civil rights law and USDA civil rights regulations and policies, the USDA, its Agencies, offices, and employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the 711 Relay Service.

To file a program discrimination complaint, a complainant should complete a Form AD-3027, USDA Program Discrimination Complaint Form, which can be obtained online at https://www.usda.gov/sites/default/files/documents/ad-3027.pdf, from any USDA office, by calling (866) 632-9992, or by writing a letter addressed to USDA. The letter must contain the complainant's name, address, telephone number, and a written description of the alleged discriminatory action in sufficient detail to inform the Assistant Secretary for Civil Rights (ASCR) about the nature and date of an alleged civil rights violation.

The completed AD-3027 form or letter must be submitted to USDA by:

(i) Mail: U.S. Department of Agriculture, Office of the Assistant Secretary for Civil Rights, 1400 Independence Avenue SW, Washington, DC 20250-9410; or

(ii) Fax: (833) 256-1665 or (202) 690-7442; or

(iii) Email: program.intake@usda.gov

USDA is an equal opportunity provider, employer, and lender.

Karama Neal,
Administrator, Rural Business-Cooperative Service.

[FR Doc. 2023-06376 Filed 3-30-23; 8:45 am]

BILLING CODE 3410-XY-P